DEPARTMENT OF THE INTERIOR

Fish and Wildlife Service

DEPARTMENT OF COMMERCE

National Oceanic and Atmospheric Administration

50 CFR Part 424

[Docket Nos. FWS-HQ-ES-2015-0016; DOC 150506429-5586-02; 4500030113]

RIN 1018-BA53; 0648-BF06

Endangered and Threatened Wildlife and Plants; Revisions to the Regulations for Petitions

AGENCY: U.S. Fish and Wildlife Service (FWS), Interior; National Marine Fisheries Service (NMFS), National Oceanic and Atmospheric Administration (NOAA), Commerce.

ACTION: Proposed rule; extension of the comment period.

SUMMARY: We, the U.S. Fish and Wildlife Service and the National Marine Fisheries Service, announce the extension of the public comment period on our May 21, 2015, proposed revisions to the regulations concerning petitions under section 4(b)(3) of the Endangered Species Act of 1973, as amended. Comments previously submitted need not be resubmitted, as they will be fully considered in preparation of the final rule.

DATES: The comment period for the proposed rule published in the Federal Register on May 21, 2015 (80 FR 29286), is extended. We will accept comments from all interested parties until September 18, 2015. Please note that if you are using the Federal eRulemaking Portal (see ADDRESSES, below), the deadline for submitting an electronic comment is 11:59 p.m. Eastern Time on that date.

ADDRESSES: You may submit comments by one of the following methods:

• Federal eRulemaking Portal: http://www.regulations.gov. In the Search box, enter the docket number for the proposed rule, which is FWS-HQ-ES-2015-0016. You may submit a comment by clicking on “Comment Now!” Please ensure that you have found the correct rulemaking before submitting your comment.

• U.S. mail: Public Comments Processing, Attn: Docket No. FWS-HQ-ES-2015-0016; Division of Policy, Performance, and Management Programs; U.S. Fish and Wildlife Service; 5275 Leesburg Pike, MS: BPHC, Falls Church, VA 22041-3803.

We will post all comments on http://www.regulations.gov. This generally means that we will post any personal information you provide us (see Public Comments, below, for more information).

FOR FURTHER INFORMATION CONTACT: Douglas Krofta, U.S. Fish and Wildlife Service, Division of Conservation and Classification, 5275 Leesburg Pike, Falls Church, VA 22041-3803, telephone 703/358-2171; facsimile 703/358-1735; or Angela Somma, National Marine Fisheries Service, Office of Protected Resources, 1315 East-West Highway, Silver Spring, MD 20910, telephone 301/427-8403. If you use a telecommunications device for the deaf (TDD), call the Federal Information Relay Service (FIRS) at 800/877-8339.

SUPPLEMENTARY INFORMATION:

Public Comments

We will accept written comments and information during this extended comment period on our proposed revisions to the regulations concerning petitions under section 4(b)(3) of the Endangered Species Act of 1973, as amended (Act; 16 U.S.C. 1531 et seq.), that was published in the Federal Register on May 21, 2015 (80 FR 29286). We will consider information we receive from all interested parties on or before the close of the comment period (see DATES).

If you have already submitted comments or information during the public comment period that began May 21, 2015, please do not resubmit them. We have incorporated them into the public record, and we will fully consider them in the preparation of our final rule.

You may submit your comments and materials by one of the methods listed in ADDRESSES. We request that you send comments only by the methods described in ADDRESSES.

If you submit a comment via http://www.regulations.gov, your entire comment—including any personal identifying information—will be posted on the Web site. We will post all hardcopy comments on http://www.regulations.gov as well. If you submit a hardcopy comment that includes personal identifying information, you may request at the top of your document that we withhold this information from public review. However, we cannot guarantee that we will be able to do so.

Background

On May 21, 2015, we published a proposed rule regarding changes to the regulations in title 50 of the Code of Federal Regulations at 50 CFR 424.14 concerning petitions, to improve the content and specificity of petitions and to enhance the efficiency and effectiveness of the petitions process to support species conservation. Our proposed revisions to § 424.14 would clarify and enhance the procedures by which the Services will evaluate petitions under section 4(b)(3) of the Act, 16 U.S.C. 1533(b)(3). We proposed to revise the regulations pertaining to the petition process to provide greater clarity to the public on the petition-submission process, which will assist petitioners in providing complete petitions. These revisions would also maximize the efficiency with which the Services process petitions, making the best use of available resources. These changes would improve the quality of petitions through expanded content requirements and guidelines, and, in doing so, better focus the Services' energies on petitions that merit further analysis.

The comment period on the May 21, 2015, proposed rule was originally scheduled to close on July 20, 2015. We have received comments requesting an extension to that date, and we now announce that we will accept comments on the proposed revisions to the regulations concerning petitions at 50 CFR 424.14 as specified in DATES.

Authority: The authority for this action is the Endangered Species Act of 1973, as amended (16 U.S.C. 1531 et seq.).

Dated: July 9, 2015.
Signed:
Michael J. Bean,
Principal Deputy Assistant Secretary for Fish and Wildlife and Parks.
Dated: July 9, 2015.
Signed:
Samuel D. Rauch,
Deputy Assistant Administrator for Regulatory Programs, National Marine Fisheries Service.

[FR Doc. 2015-17580 Filed 7-16-15; 8:45 am]

BILLING CODE 4310-55-3510-22-P